DEPARTMENT OF HEALTH AND HUMAN SERVICES

Centers for Disease Control and Prevention

[60Day-11-11AA]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Carol E. Walker, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Central America Water and Sanitation Program Sustainability Evaluation and Qualitative Survey—NEW—Global Water Sanitation and Hygiene (GWASH) Team, Environmental Health Services Branch (EHSB), Division of Emergency and Environmental Health Services (DEEHS), National Center for Environmental Health (NCEH), Centers for Disease Control and Prevention (CDC).

Background and Brief Description

CDC, under Section 301 of the Public Health Service Act (42 U.S.C. 241) has the authority to conduct research relating to the sustainability of water, sanitation and hygiene education (WASH) programs. An epidemiological study with statistical methods will be used to evaluate these interventions to determine the key factors to longevity of these projects.

There is little information available on the longevity of infrastructure and hygiene behaviors after WASH interventions are provided. Sustainability of these WASH interventions is a crucial factor in maintaining the health and well-being of a community.

In the Latin American and Caribbean region, 20% of the rural population in 2008 had no access to an improved drinking water source. Forty-five percent of this population also has unimproved sanitation facilities with 20% of that population not using any type of sanitation facility.

Sustainability of WASH interventions ties in to goal 7 of the Millennium Development Goals, to ensure environmental sustainability. Specifically, it is to “reduce by half the proportion of the population without sustainable access to safe drinking water and basic sanitation” by 2015.

In addition to this issue, significant natural disasters such as hurricanes and tropical storms have the potential to completely destroy infrastructure. In 1998, Central America (El Salvador, Guatemala, Honduras, and Nicaragua) was struck by Hurricane Mitch. After the hurricane, the American Red Cross (ARC) responded to the disaster and provided community- and household-level water, sanitation, and hygiene education to hundreds of communities. What began as a disaster response/reconstruction program in 1998, has developed into a study of the long-term sustainability of WASH interventions.

This research will focus on assessing eight communities that were provided WASH interventions by the ARC post-Hurricane Mitch. This survey will help to evaluate the key factors that help communities to maintain their infrastructure. The results will be used to improve ARC programs as well as to help guide other non-governmental agencies on how to best maximize their investments to ensure long-term community health.

This research includes four components which will be done in each community: (1) A community survey with community leaders and/or the local water board; (2) a cross-sectional quantitative and qualitative household survey; (3) water sampling and analysis of community water sources/systems and stored household water; and (4) an infrastructure inspection of the community water system. United States Agency for International Development (USAID) indicators were used as the basis for measuring WASH interventions using performance indicators. Performance indicators are a way to measure the performance of disaster-related water and sanitation programs.

Four indicators will be used in this evaluation. To measure the water intervention we will estimate (1) the percent of households with access to an improved water source. The sanitation indicator measures (2) the percent of households with access to improved sanitation. Hygiene education is evaluated using two indicators, (3) the percent of households with appropriate hand washing behavior and (4) the percent of the population using hygienic sanitation facilities.

The sustainability evaluation will conduct a face-to-face interview with the community leaders and/or members of the water board from eight communities.

Second, a cross-sectional household survey (n = 150) that are randomly selected will be administered. This survey contains questions on water use, access and availability; sanitation access, use and maintenance; and hygiene education—when was the last time it was presented to the community, what topics were discussed, when was it provided and by whom. The household interview will be done using a paper survey, reviewed each day and then transferred into an electronic database for statistical analysis and calculation of the indicators. The survey will be done with the female head of household and take approximately 30 minutes.

Third, a qualitative survey with randomly selected female head of household (n = 30), will be conducted to gather study participants thoughts and opinions on the WASH services provided to them and their community. This survey will be tape recorded and take approximately 30 to 45 minutes to complete.

All household surveys will include qualitative testing of drinking water (n = 180) stored in the home. Total coliforms and E. coli will be determined using a standard pre-measured Hach test kit. Included in the water sampling portion of this study are the community water sources and water samples (n = 20) within the distribution system. Additional testing will include measuring free chlorine in the community water system if chlorine is being used (n = 10).

Lastly, an infrastructure evaluation for each community will be done by CDC personnel using a checklist. This evaluation will help to determine the strengths and weaknesses of each system for each community.

There is no cost to respondents to participate in the sustainability evaluation other than their time.

Estimated Annualized Burden Hours
Respondents/form name | Number of respondents | Number of responses per respondent | Average burden response (in hours) | Total burden (in hours)
Quantitative Household interviews | 150 | 1 | 0.5 | 75
Qualitative Household interviews | 30 | 1 | 1 | 30
Community survey | 8 | 1 | 1 | 8
Water Sampling | 200 | 1 | 0.5 | 100
Infrastructure survey | 8 | 1 | 1 | 8
Total |  |  |  | 221

Dated: October 15, 2010.
Catina Conner,
Acting Reports Clearance Officer, Centers for Disease Control and Prevention.

[FR Doc. 2010-26566 Filed 10-20-10; 8:45 am]

BILLING CODE 4163-18-P